DEPARTMENT OF EDUCATION

[Docket No.: ED-2015-ICCD-0058]

Agency Information Collection Activities; Comment Request; Application for the Rural Education Achievement Program (REAP)

AGENCY: Office of Elementary and Secondary Education (OESE), Department of Education (ED).

ACTION: Notice.

SUMMARY: In accordance with the Paperwork Reduction Act of 1995 (44 U.S.C. chapter 3501 et seq.), ED is proposing an extension of an existing information collection.

DATES: Interested persons are invited to submit comments on or before July 6, 2015.

ADDRESSES: Comments submitted in response to this notice should be submitted electronically through the Federal eRulemaking Portal at http://www.regulations.gov by selecting Docket ID number ED-2015-ICCD-0058 or via postal mail, commercial delivery, or hand delivery. If the regulations.gov site is not available to the public for any reason, ED will temporarily accept comments at ICDocketMgr@ed.gov. Please note that comments submitted by fax or email and those submitted after the comment period will not be accepted; ED will ONLY accept comments during the comment period in this mailbox when the regulations.gov site is not available. Written requests for information or comments submitted by postal mail or delivery should be addressed to the Director of the Information Collection Clearance Division, U.S. Department of Education, 400 Maryland Avenue SW., LBJ, Mailstop L-OM-2-2E319, Room 2E115, Washington, DC 20202.

FOR FURTHER INFORMATION CONTACT: For specific questions related to collection activities, please contact Jean Marchowsky, (202) 205-2161.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Application for the Rural Education Achievement Program (REAP).

OMB Control Number: 1810-0646.

Type of Review: An extension of an existing information collection.

Respondents/Affected Public: State, Local and Tribal Governments.

Total Estimated Number of Annual Responses: 549.

Total Estimated Number of Annual Burden Hours: 3,277.

Abstract: This data collection is pursuant to the Secretary's authority under Part B of Title VI of the Elementary and Secondary Education Act (ESEA), to award funds under two grant programs designed to address the unique needs of rural school districts—the Small, Rural School Achievement (SRSA) program (ESEA Section 6212) and the Rural and Low-Income School (RLIS) program (ESEA Section 6221). Under the SRSA program, the Secretary awards grants directly to eligible local educational agencies (LEAs) on a formula basis. Under the RLIS program, eligible school districts are sub-recipients of funds the Department awards to State educational agencies (SEAs) on a formula basis. For both grant programs, the Department awards funds based on a determination of the eligibility of individual school districts and the calculation of the allocation each eligible district should receive according to formula prescribed in the statute. This data collection package consists of two forms and related documents that are used to accomplish the grant award process each year: (1) A spreadsheet used by SEAs to submit information to identify RLIS and SRSA-eligible LEAs and to allocate funds based on the appropriate formula, and (2) an application form for SRSA-eligible LEAs to apply for funding. This submission requests a three-year extension of the current approved collection package (OMB #1810-0646). The REAP eligibility spreadsheet (Form 1) has no substantive changes or revisions from the previously-approved collection under OMB#1810-0646. Similarly, the SRSA Application (Form 2) is essentially unchanged from the previous collection. The instructions accompanying both Form 1 and Form 2 remain unchanged from the previously-approved collection, except for minor changes to update dates and contact information. None of these changes require SEAs to submit additional data.

Dated: April 28, 2015.
Tomakie Washington,
Acting Director, Information Collection Clearance Division, Office of the Chief Privacy Officer, Office of Management.

[FR Doc. 2015-10313 Filed 5-1-15; 8:45 am]

BILLING CODE 4000-01-P